DEPARTMENT OF HOMELAND SECURITY

Coast Guard

33 CFR Part 117

[CGD01-07-026]

Drawbridge Operation Regulations; Gowanus Canal, Brooklyn, NY

AGENCY: Coast Guard, DHS.

ACTION: Notice of temporary deviation from regulations.

SUMMARY: The Commander, First Coast Guard District, has issued a temporary deviation from the regulation governing the operation of the Hamilton Avenue Bridge across Gowanus Canal, mile 1.2, at Brooklyn, New York. Under this temporary deviation the draw may remain in the closed position from April 3, 2007 through April 5, 2007 and from April 6, 2007 through September 29, 2007, a four-hour advance notice shall be required for all bridge openings. This deviation is necessary to facilitate scheduled bridge maintenance.

DATES: This deviation is effective from April 3, 2007 through September 29, 2007.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The Hamilton Avenue Bridge across Gowanus Canal, mile 1.2, at Brooklyn, New York, has a vertical clearance in the closed position of 19 feet at mean high water and 23 feet at mean low water. The existing operating regulations are listed at 33 CFR 117.5.

The bridge owner, New York City Department of Transportation (NYCDOT), requested a temporary deviation to allow the bridge to remain in the closed position to facilitate scheduled electrical and mechanical bridge maintenance.

Under this temporary deviation the Hamilton Avenue Bridge may remain in the closed position from April 3, 2007 through April 5, 2007, and from April 6, 2007 through September 29, 2007, the draw shall open after at least a four-hour advance notice is given by calling the contractor at (201) 400-5243.

In accordance with 33 CFR 117.35(c), this work will be performed with all due speed in order to return the bridge to normal operation as soon as possible.

This deviation from the operating regulations is authorized under 33 CFR 117.35.

Dated: March 15, 2007.
Gary Kassof,
Bridge Program Manager, First Coast Guard District.

[FR Doc. E7-5389 Filed 3-22-07; 8:45 am]

BILLING CODE 4910-15-P